ENVIRONMENTAL PROTECTION AGENCY

[EPA-R01-OW-2009-0304, FRL-9106-3]

Maine Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the coastal waters of Camden, Rockport, Rockland and portions of Owls Head.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, Office of Ecosystem Protection, Coastal and Oceans Protection Unit, Five Post Office Square, Suite 100, OEP06-1, Boston, MA 02109-3912. Telephone: (617) 918-1538. Fax number: (617) 918-0538. E-mail address: rodney.ann@epa.gov.

SUPPLEMENTARY INFORMATION: On July 13, 2009, EPA published a notice that the state of Maine had petitioned the Regional Administrator, Environmental Protection Agency, to determine that adequate facilities for the safe and sanitary removal and treatment of sewage from all vessels are reasonably available for the waters of Camden, Rockland, Rockport and portions of Owls Head. Six comments were received on this petition. The response to comments can be obtained utilizing the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Camden, Rockport, Rockland and portions of Owls Head. The NDA boundaries are as follows:

Waterbody/general area | From longitude | From latitude | To longitude | To latitude
From USCG navigational aid red and white bell “CH” west across the water to Northeast Point in Camden: | 69° 2′ 16.1″ W | 44° 12′ 40.98″ N | 69° 2′ 47.61″ W | 44° 12′ 32.84″ N
From Northeast point west following the shore to the head of navigation in Camden Harbor at the mouth of the Megunticook River in Camden: | 69° 2′ 47.61″ W | 44° 12′ 32.84″ N | 69° 3′ 51.14″ W | 44° 12′ 37.58″ N
South following the shore to the head of navigation in Rockport Harbor and the mouth of the Goose River in Rockport: | 69° 3′ 51.14″ W | 44° 12′ 37.58″ N | 69° 4′ 23.79″ W | 44° 11′ 11.35″ N
South following the shore to the extent of navigation of Rockland Harbor and the mouth of the Unnamed stream in Rockland: | 69° 4′ 23.79″ W | 44° 11′ 11.35″ N | 69° 6′ 11.65″ W | 44° 4′ 41.42″ N
East following the shore to Owls Head in the town of Owls Head: | 69° 6′ 11.65″ W | 44° 4′ 41.42″ N | 69° 2′ 36.46″ W | 44° 5′ 30.58″ N
East in a straight line across the water to USGC navigational green can “7”: | 69° 2′ 36.46″ W | 44° 5′ 30.58″ N | 69° 2′ 30.06″ W | 44° 5′ 24.95″ N
North in a straight line across the water to USCG navigational aid red and white bell “CH”: | 69° 2′ 30.06″ W | 44° 5′ 24.95″ N | 69° 2′ 16.1″ W | 44° 12′ 40.98″ N

The area includes the municipal waters of Camden, Rockport, Rockland, and portions of Owls Head.

The information submitted to EPA by the state of Maine certifies that there are six pumpout facilities located within this area. A list of the facilities, with locations, phone numbers, and hours of operation is appended at the end of this determination.

Based on the examination of the petition and its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities Within the No Discharge Area
(Camden, Rockport, and Rockland)
Name | Location | Contact info. | Hours | Mean low water depth
Harbormaster | Town Landing Camden | 207-236-3353, VHF 16 | 8am-5pm, 7 days | N/A.
Wayfarer Marine | 59 Sea Street Camden | 207-236-4378, VHF 9 | 8am-5pm, 7days | 10 ft.
Journey's End Marina | 120 Tilson Ave. Rockland | 207-598-4444, VHF 9 | 8am-5pm, 7 days | 8 ft.
Landings Marina | Commercial Street Rockland | 207-596-6573, VHF 9 | 9am-5pm, 7 days | 5 ft.
City of Rockland | Rockland Public Landing Rockland | 207-594-0312, VHF 9 | 9am-5pm, 7 days | 6 ft.
Trident Yacht Basin | 60 Ocean Street Rockland | 207-236-8100, VHF 9 | 9am-5pm, 7 days | 23 ft.

Dated: January 15, 2010.
H. Curtis Spalding,
Regional Administrator, New England Region.

[FR Doc. 2010-1581 Filed 1-26-10; 8:45 am]

BILLING CODE 6560-50-P